SECURITIES AND EXCHANGE COMMISSION

Sunshine Act Meetings

TIME AND DATE: Notice is hereby given, pursuant to the provisions of the Government in the Sunshine Act, Public Law 94-409, that the Securities and Exchange Commission Fixed Income Market Structure Advisory Committee will hold a public telephonic meeting on Tuesday, June 11, 2019 at 1:00 p.m.

PLACE: The meeting will be open to the public by telephone at 1-800-260-0718, participant code 467607 as well as by an audio-only webcast on the Commission's website at www.sec.gov.

STATUS: The meeting will begin at 1:00 p.m. and will be open to the public by telephone and an audio-only webcast on the Commission's website at www.sec.gov.

MATTERS TO BE CONSIDERED: On May 20, 2019, the Commission published notice of the Committee meeting (Release No. 34-85895), indicating that the meeting is open to the public, by telephone or an audio-only webcast, and inviting the public to submit written comments to the Committee. This Sunshine Act notice is being issued because a majority of the Commission may attend the meeting.

The agenda for the meeting will include the consideration of recommendations from the Technology and Electronic Trading Subcommittee.

CONTACT PERSON FOR MORE INFORMATION: For further information, please contact Vanessa A. Countryman from the Office of the Secretary at (202) 551-5400.

Dated: June 3, 2019.
Vanessa A. Countryman,
Acting Secretary.

[FR Doc. 2019-11934 Filed 6-3-19; 4:15 pm]

BILLING CODE 8011-01-P